CONSUMER PRODUCT SAFETY COMMISSION

16 CFR Part 1500

[Docket No. CPSC-2010-0080]

Children's Products Containing Lead; Technological Feasibility of 100 ppm for Lead Content; Notice of Effective Date of 100 ppm Lead Content Limit in Children's Products

AGENCY: U.S. Consumer Product Safety Commission

ACTION: Notice of statutory requirement.

SUMMARY: Section 101(a) of the Consumer Product Safety Improvement Act (“CPSIA”) provides that, as of August 14, 2011, children's products may not contain more than 100 parts per million (“ppm”) of lead unless the Consumer Product Safety Commission (“CPSC,” “Commission,” or “we”) determines that such a limit is not technologically feasible. The determination can only be made after notice and a hearing and after analyzing the public health protections associated with substantially reducing lead in children's products. On February 16, 2011, we conducted a public hearing to receive views from all interested parties about the technological feasibility of meeting the 100 ppm lead content limit for children's products and associated public health considerations. Through this document, we announce that children's products must meet the statutory 100 ppm lead content limit on August 14, 2011, unless otherwise excluded under CPSC regulations.¹

¹ The Commission voted 3-2 to publish this notice, without changes, in the Federal Register. Chairman Inez M. Tenenbaum, Commissioners Thomas Moore and Robert Adler voted to publish the notice. Commissioners Nancy Nord and Anne Northup voted against publication of the notice. Chairman Tenenbaum and Commissioners Nord and Northup filed statements regarding the vote. The statements may be viewed at http://www.cpsc.gov/pr/statements.html.

DATES: The 100 ppm lead content limit for children's products is effective on August 14, 2011.

FOR FURTHER INFORMATION CONTACT: Dominique Williams, Directorate for Health Sciences, Consumer Product Safety Commission, Bethesda, MD 20814; telephone: (301) 504-7597; e-mail: dwilliams@cpsc.gov.

SUPPLEMENTARY INFORMATION:

I. Background

Section 101(a)(2)(C) of the CPSIA (15 U.S.C. 1278a(a)(2)(C)) provides that, as of August 14, 2011, children's products may not contain more than 100 ppm of lead unless the Commission determines that such a limit is not technologically feasible. The Commission may make this determination only after notice and a hearing and after analyzing the public health protections associated with substantially reducing lead in children's products. Section 101(d) of the CPSIA (15 U.S.C 1278a(d)) provides that a lead limit shall be deemed technologically feasible with regard to a product or product category if:

(1) A product that complies with the limit is commercially available in the product category;

(2) technology to comply with the limit is commercially available to manufacturers or is otherwise available within the common meaning of the term;

(3) industrial strategies or devices have been developed that are capable or will be capable of achieving such a limit by the effective date of the limit and that companies, acting in good faith, are generally capable of adopting; or

(4) alternative practices, best practices, or other operational changes would allow the manufacturer to comply with the limit.

On July 27, 2010, we published a notice in the Federal Register (75 FR 43942), requesting comment and seeking information concerning the technological feasibility of meeting the 100 ppm lead content limit for children's products that are not otherwise excluded from the lead content limits under 16 CFR 1500.87 through 1500.91. After initial consideration of the comments and information received in response to the July 27, 2010 notice, we published a notice in the Federal Register (76 FR 4641) on January 26, 2011, announcing that we would be conducting a public hearing to receive views from all interested parties about the technological feasibility of meeting the 100 ppm lead content limit for children's products and associated public health considerations. The hearing was held on February 16, 2011. On March 9, 2011, we published another notice in the Federal Register (76 FR 12944), reopening the hearing record to allow hearing participants to submit relevant studies and supplementary data in response to additional questions from certain Commissioners.

Participants who submitted comments and hearing testimony regarding the technological feasibility of meeting the 100 ppm lead content limit and associated public health considerations included consumers, consumer groups, manufacturers, retailers, associations, and laboratories. Comments submitted in this proceeding are available at http://www.regulations.gov, under Docket No. CPSC-2010-0080. The video webcast of the hearing, as well as the presentations and written comments from the hearing, are available at the CPSC web site: http://www.cpsc.gov/webcast/previous.html. A transcript of the hearing and supplemental information provided by hearing participants are also available at http://www.regulations.gov, docket CPSC-2010-0080.

II. Technological Feasibility of 100 ppm

We evaluated the technological feasibility of the 100 ppm lead content limit for children's products based on available technical information, written public comments, public hearing oral comments, and other available information. CPSC staff's analysis regarding the technological feasibility of materials and products to meet the 100 ppm lead content limit is contained in the staff briefing package available on the CPSC Web site at: http://www.cpsc.gov/library/foia/foia11/brief/lead100tech.pdf and http://www.cpsc.gov/library/foia/foia11/brief/100ppmlead.pdf. We evaluated the technological feasibility of meeting the 100 ppm lead content limit in materials such as plastics, glass, and metals; reviewed the economic impacts of reducing the lead content limit from 300 ppm to 100 ppm; and considered the public comments received in this proceeding, including comments on public health protectiveness, economic burdens, availability of compliant materials, and variability in test results. Based upon this analysis, the staff could not recommend that the Commission make a determination that it is not technologically feasible for a product or product category to meet the 100 ppm lead content limit for children's products under section 101(d) of the CPSIA. No such determination has been made by the Commission. Therefore, all children's products sold, offered for sale, manufactured for sale, distributed in commerce, or imported for sale in the United States must meet the 100 ppm lead content limit beginning August 14, 2011 as statutorily mandated by the CPSIA unless otherwise excluded under 16 CFR 1500.87 through 1500.91. With respect to bicycles and related products and youth motorized recreational vehicles, a stay of enforcement regarding the lead content in certain parts, including metal components, is currently in effect until December 31, 2011 (76 FR 6765).

Dated: July 18, 2011.
Todd A. Stevenson,
Secretary, Consumer Product Safety Commission.

[FR Doc. 2011-18510 Filed 7-25-11; 8:45 am]

BILLING CODE 6355-01-P